DEPARTMENT OF HEALTH AND HUMAN SERVICES

Centers for Disease Control and Prevention

Board of Scientific Counselors, Office of Infectious Diseases: Notice of Charter Renewal

This gives notice under the Federal Advisory Committee Act (Pub. L. 92-463) of October 6, 1972, that the Board of Scientific Counselors, Office of Infectious Diseases, Centers for Disease Control and Prevention (CDC), Department of Health and Human Services (HHS), has been renewed for a 2-year period through October 31, 2015.

For information, contact Robin Moseley, M.A.T., Designated Federal Officer, Board of Scientific Counselors, Office of Infectious Diseases, CDC, HHS, 1600 Clifton Road NE., Mailstop D10, Atlanta, Georgia 30333, telephone 404/639-4461 or fax 404/235-3562.

The Director, Management Analysis and Services Office, has been delegated the authority to sign Federal Register Notices pertaining to announcements of meetings and other committee management activities, for both the Centers for Disease Control and Prevention and the Agency for Toxic Substances and Disease Registry.

Catherine Ramadei,
Acting Director, Management Analysis and Services Office, Centers for Disease Control and Prevention.

[FR Doc. 2013-27716 Filed 11-19-13; 8:45 am]

BILLING CODE 4163-18-P